DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and are new, modified, discontinued, or completed since the last publication of this notice on August 2, 2006. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Sandra L. Simons, Manager, Contract Services Office, Bureau of Reclamation, PO Box 25007, Denver, Colorado 80225-0007; telephone 303-445-2902.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) The significance of the modification, and (ii) the degree of public interest which has been expressed over the course of the negotiations. At a minimum, the regional director shall furnish revised contracts to all parties who requested the contract in response to the initial public notice.

The February 23, 2006, notice should be used as a reference point to identify changes. The numbering system in this notice corresponds with the numbering system in the February 23, 2006, notice.

Definitions of Abbreviations Used in This Document
BCP; reclamation | Boulder Canyon Project; Bureau of Reclamation
CAP | Central Arizona Project.
CVP | Central Valley Project.
CVPIA | Central Valley Project Improvement Act.
CRSP | Colorado River Storage Project.
FR | Federal Register.
IDD | Irrigation and Drainage District.
ID | Irrigation District.
M&I | Municipal and Industrial.
NMISC | New Mexico Interstate Stream Commission.
O&M | Operation and Maintenance.
P-SMBP | Pick-Sloan Missouri Basin Program.
PPR | Present Perfected Right.
RRA | Reclamation Reform Act of 1982.
SOD | Safety of Dams.
SRPA | Small Reclamation Projects Act of 1956.
WD | Water District.

Pacific Northwest Region: Bureau of Reclamation, 1150 North Curtis Road, Suite 100, Boise, Idaho 83706-1234, telephone 208-378-5344.

Modified contract action:

16. Two irrigation water user entities, Boise Project, Idaho: Long-term renewal and/or conversion of two irrigation water service contracts for supplemental irrigation use of up to 2,218 acre-feet of storage space in Lucky Peak Reservoir, a Corps of Engineers' project on the Boise River, Idaho. Sixteen water service contracts have been converted to repayment contracts for a total of 68,000 acre-feet of storage space.

Completed contract action:

19. Stanfield ID, Umatilla Project, Oregon: Contract for long-term boundary expansion to include lands outside of federally recognized district boundaries. Contract executed September 8, 2006.

Mid-Pacific Region: Bureau of Reclamation, 2800 Cottage Way, Sacramento, California 95825-1898, telephone 916-978-5250.

New contract actions:

44. Elk Creek Community Services District, CVP, California: Interim renewal of water service contract for an initial period of 3 years, with subsequent interim renewal contracts of 2 years pursuant to section 3404(c) of the CVPIA.

45. Westlands WD, CVP, California: Interim renewal of water service contract (Case No. CV-79-106-EDP) for an initial period of 3 years, with subsequent interim renewal contracts of 2 years pursuant to section 3404(c) of the CVPIA.

46. Westlands WD, CVP, California: Interim renewal of water service contract (No. 14-06-200-495A) for an initial period of 3 years, with subsequent interim renewal contracts of 2 years pursuant to section 3404(c) of the CVPIA.

Modified contract actions:

42. Cawelo WD and Lindsay-Strathmore ID, CVP, California: Long-term Warren Act contract for conveying nonproject water for a non-CVP contractor.

43. Elk Creek Community Services District, CVP, California: Renewal of long-term water service contract for up to 100 acre-feet for a period of 40 years.

Lower Colorado Region: Bureau of Reclamation, PO Box 61470 (Nevada Highway and Park Street), Boulder City, Nevada 89006-1470, telephone 702-293-8081.

New contract actions:

42. City of Needles, BCP, California: Amendment to contract No. 05-XX-30-W0445 to include PPR No. 44 for an annual diversion of 1,260 acre-feet or the annual consumptive use of 273 acre-feet, whichever is less.

43. Cibola Resources, LLC, BCP, Arizona: Assign contract No. 06-XX-30-W0449 to B&F Investment, LLC, transfer the 60-acre-foot entitlement to B&F under that contract, and enter into a new contract with B&F to change the type and place of use.

44. Rudy J. Leon and Helen V. Thomas, BCP, California: Enter into a contract for their entitlement of PPR No. 38 for 1.7086 acre-feet of water per year.

Completed contract actions:

11. Berneil Water Co., CAP, Arizona: Partial assignment of 200 acre-feet of water per year to the Cave Creek Water Company.

37. Cibola Valley IDD, BCP, Arizona: Assign 60 acre-feet per year of the district's entitlement to Arizona fourth-priority water to Cibola Resources, LLC, for agricultural purposes.

Upper Colorado Region: Bureau of Reclamation, 125 South State Street, Room 6107, Salt Lake City, Utah 84138-1102, telephone 801-524-3864.

New contraction:

1.(h) Michael and Nancy Courtney Schell, Aspinall Storage Unit, CRSP: The Schells have requested a 40-year water service contract for 1 acre-foot of water out of Blue Mesa Reservoir. An augmentation plan is not required for their direct withdrawal of water from the reservoir.

Modified contract:

32. Emery County Project, Utah: The Huntington Cleveland Irrigation Company has requested a contract for carriage of up to 14,074 acre-feet of nonproject water; utilizing Huntington North Reservoir as a regulating feature associated with their Salinity Control Project.

Great Plains Region: Bureau of Reclamation, PO Box 36900, Federal Building, 316 North 26th Street, Billings, Montana 59107-6900, telephone 406-247-7752.

New contract actions:

49. Colorado River Water Conservation District, Colorado-Big Thompson Project, Colorado: Long-term exchange, conveyance, and storage contract to implement the Exhibit B Agreement of the Settlement Agreement on Operating Procedures for Green Mountain Reservoir Concerning Operating Limitations and in Resolution of the Petition Filed August 7, 2003, in Case No. 49-CV-2782 (The United States v Northern Colorado Water Conservancy District, et al., U.S. District Court for the District of Colorado, Case No. 2782 and Consolidated Case Nos. 5016 and 5017).

50. Colorado River Water Conservation District, Colorado-Big Thompson Project, Colorado: Consideration of a request for a long-term contract for the use of excess capacity for storage and exchange in Green Mountain Reservoir in the Colorado-Big Thompson Project.

Modified contract actions:

9. Highland-Hanover ID, Hanover-Bluff Unit, P-SMBP, Wyoming: Negotiate long-term water service contract.

10. Upper Bluff ID, Hanover-Bluff Unit, P-SMBP, Wyoming: Negotiate long-term water service contract.

13. Savage ID, P-SMBP, Montana: The district is currently seeking title transfer. The contract is subject to renewal pending outcome of the title transfer process. A 5-year interim contract was executed May 7, 2003, to ensure a continuous water supply.

Completed contract actions:

8. City of Cheyenne, Kendrick Project, Wyoming: Negotiate a long-term contract for storage space for replacement water on a daily basis in Seminoe Reservoir. A temporary contract has been issued pending negotiation of the long-term contract. Long-term contract was executed October 1, 2006.

16. Glendo Unit, P-SMBP, Wyoming: Amendments to long-term water service contracts with Burbank Ditch, New Grattan Ditch Company, Torrington ID, Lucerne Canal and Power Company, and Wright and Murphy Ditch Company. Contract amendments were executed June 28, 2006.

17. Glendo Unit, P-SMBP, Nebraska: Amendments to long-term water service contracts with Bridgeport, Enterprise, and Mitchell IDs, and Central Nebraska Public Power and ID. Contract amendments were executed June 28, 2006.

27. Hill County WD, Milk River Project, Montana: Drafting contracts for renewal of municipal water supply contract No. 14-06-600-8954 which expired August 1, 2006. The proposal includes splitting the contract between Hill County WD and North Havre County WD which both receive their full water supply under the current contract. Contract No. 069E670064 with Hill County WD was executed July 28, 2006; and contract No. 069E670065 with North Havre County WD was executed August 4, 2006.

Discontinued contract action:

21. Canadian River Municipal Water Authority, Lake Meredith Salinity Control Project, New Mexico and Texas: Negotiation of a contract for the transfer of control (care and O&M) of the project to the Authority in accordance with Pub. L. 102-575, Title VIII, Section 804(c).

Dated: September 27, 2006.
Roseann Gonzales,
Director, Office of Program and Policy Services.

[FR Doc. E6-19554 Filed 11-17-06; 8:45 am]

BILLING CODE 4310-MN-P